INTERNATIONAL TRADE COMMISSION

Privacy Act of 1974; Revision of a System of Records

AGENCY: International Trade Commission.

ACTION: Request for comments on proposed revision of a system of records.

SUMMARY: Pursuant to 5 U.S.C. 522a(e)(4) of the Privacy Act of 1974, the U.S. International Trade Commission (“Commission”) proposes the following action: revise the existing system of records entitled “Pay, Leave and Travel Records”.

DATES: Comments must be received no later than June 19, 2002. The proposed revision to the Commission's system of records will become effective on that date unless otherwise published in the Federal Register.

ADDRESSES: Written comments should be directed to the Secretary, U.S. International Trade Commission, 500 E Street, SW., Washington, DC 20436.

FOR FURTHER INFORMATION CONTACT: Thomas Bolick, Esq., Office of the General Counsel, U.S. International Trade Commission, tel. 202-205-3107. Hearing impaired persons can obtain information on this matter by contacting the Commission's TDD terminal on 202-205-1810. Persons with mobility impairments who will need special assistance in gaining access to the Commission should contact the Office of the Secretary at 202-205-2000.

SUPPLEMENTARY INFORMATION: Pursuant to the Privacy Act of 1974, this revision to an existing Commission system of records will be reported to the Office of Management and Budget, the Chair of the Committee on Government Reform and Oversight of the House of Representatives, and the Chair of the Committee on Governmental Affairs of the Senate. This revision is in response to a review of the Commission's existing system of records entitled “Pay, Leave and Travel Records”. The Commission proposes to revise the existing “Pay, Leave, and Travel Records” by updating, clarifying, and conforming the information in the Commission's Privacy Act notices to reflect current procedures.

ITC-1

System Name:

Pay, Leave and Travel Records.

System Location:

Office of Finance, U.S. International Trade Commission, 500 E Street, SW., Washington, DC 20436; National Business Center, U.S. Department of the Interior, Mail Stop D-2600, 7201 West Mansfield Avenue, Lakewood, CO 80235-2230; General Services Administration, 1500 East Bannister Road, Kansas City, MO 64131; Aldmyr Systems Incorporated, 4200 Parliament Place, Suite 406, Lanham, MD 20706; and in all Commission offices located at the same address as the Office of Finance. For Retired Personnel Files: National Archives and Records Administration National Personnel Records Center (Civilian Personnel Records Center), 111 Winnebago Street, St. Louis, MO 63118.

Categories of Individuals Covered by the System:

All current and former Commission employees.

Categories of Records in the System:

This system contains various records relating to pay, leave and travel. This includes information such as: Name; date of birth; Social Security number; W-2 address; grade; employing organization; timekeeper number; salary; pay plan; number of hours worked; leave accrual rate, usage, and balances; activity accounting reports; Civil Service Retirement and Federal Retirement System contributions; FICA withholdings; Federal, State, and local tax withholdings; Federal Employee's Group Life Insurance withholdings; Federal Employee's Health Benefits withholdings; charitable deductions; allotments to financial organizations; levy, garnishment, and salary and administrative offset documents; savings bonds allotments; union and management association dues withholding allotments; Combined Federal Campaign and other allotment authorizations; direct deposit information; information on the leave transfer program; travel records; and tax fringe benefits.

Authority for Maintenance of the System:

Authority for maintenance of the system includes the following with any revisions or amendments: 5 U.S.C. Chapters 53, 55, 57 and 61; 31 U.S.C. 3131 and 3512; Executive Order 9397.

Purpose(s):

These records are used for the purposes of administering pay, leave, and travel, activity accounting, and budget preparation.

Routine Uses of Records Maintained in the System, Including Categories of Users and the Purposes of Such Uses:

General Routine Uses A-K apply to this system.¹ The pay and leave records are transmitted electronically by the Commission directly to the National Business Center, U.S. Department of the Interior, which provides payroll services. The U.S. Department of the Interior transmits relevant portions of those records as necessary to the following: (a) To the Treasury Department for issuance of pay checks; (b) To the Treasury Department for issuance of savings bonds; (c) To the U.S. Office of Personnel Management (“OPM”) for retirement, health, and life insurance purposes, and to carry out OPM's Government-wide personnel management functions; (d) To the National Finance Center, U.S. Department of Agriculture for the Thrift Savings Plan and Temporary Continuation of Coverage; (e) To the Social Security Administration for reporting wage data in compliance with the Federal Insurance Compensation Act; (f) To the Internal Revenue Service and to State and local tax authorities for tax purposes, including reporting of withholding, audits, inspections, investigations, and similar tax activities; (g) To the Combined Federal Campaign for charitable contribution purposes; and (h) To officials of labor organizations recognized under 5 U.S.C. Chapter 71 for the purpose of identifying Commission employees contributing union dues each pay period and the amount of dues withheld. Travel records are transmitted electronically to Aldmyr Systems Incorporated for management purposes, the National Business Center for accounting and processing purposes, and the San Francisco Finance Center, U.S. Department of Treasury, for issuance of travel reimbursements. Relevant information in this system may be disclosed as necessary to other Federal agencies or Federal contractors with statutory authority to assist in the collection of Commission debts.

¹ See 62 FR 23485, 23495 (Apr. 30, 1997) for a listing of General Routine Uses Applicable to More Than One System of Records.

Disclosure to Consumer Reporting Agencies:

Disclosures may be made from this system pursuant to 5 U.S.C. 552a(b)(12) and 31 U.S.C. 3711(f) to “consumer reporting agencies” as defined in 31 U.S.C. 3701(a)(3).

Policies and Practices for Storing, Retrieving, Accessing, Retaining, and Disposing of Records in the System Storage:

These records are maintained on computer media, on paper in file folders, and on microfiche. The computer records are shared electronically with the Department of the Interior. Travel computer records also are shared electronically with Aldmyr Systems Incorporated.

Retrievability:

These records are retrieved by the name and Social Security Number of the individuals on whom they are maintained.

Safeguards:

These records are maintained in a building with restricted public access. The records in this system are kept in limited access areas within the building. The paper files are maintained in secure file cabinets or rooms, and access is limited to persons whose official duties require access. The computer files can be accessed only by authorized individuals through the use of passwords.

Retention and Disposal:

Payroll and salary and administrative offset records will be updated as required in accordance with the National Archives and Records Administration's (NARA's) General Records Schedule 2. Time and attendance records generally will be destroyed after a General Accounting Office (GAO) audit or when six years old, whichever is sooner, in accordance with NARA's General Records Schedule 2. Tax withholding records will be destroyed when four years old in accordance with NARA's General Records Schedule 2. U.S. Savings Bond authorization (SF 1192 or equivalent) will be destroyed when superceded or after separation of employee in accordance with NARA's General Records Schedule 2. Bond registration files, receipt and transmittal files will be destroyed four months after date of issuance of bond in accordance with NARA's General Records Schedule 2. Combined Federal Campaign and other allotments will be destroyed after a GAO audit or when three years old, whichever is sooner. Thrift Savings Plan Election forms will be destroyed when superceded or after separation of employee in accordance with NARA's General Records Schedule 2. Direct Deposit sign-up forms will be destroyed when superceded or after separation of employee in accordance with NARA's General Records Schedule 2. Levy and garnishment records will be destroyed three years after garnishment is terminated. Travel records will be destroyed six years after the period of the account in accordance with NARA's General Records Schedule 9. Records will be disposed of in a secure manner.

System Manager(s) and Address:

Director, Office of Finance, U.S. International Trade Commission, 500 E Street, SW., Washington, DC 20436; Travel and Transportation Management Officer, U.S. International Trade Commission, 500 E Street, SW., Washington, DC 20436.

Notification Procedure:

Individuals wishing to inquire whether this system of records contains information about them should contact the Privacy Act Officer, Office of the Director of Administration, U.S. International Trade Commission, 500 E Street, SW., Washington, DC 20436. Individuals must furnish the following information for their records to be located and identified:

1. Full name(s);

2. Date of birth;

3. Social Security number;

4. Dates of employment;

5. Dates of travel (for travel records only); and

6. Signature.

Record Access Procedure:

Individuals wishing to request access to their records should contact the Privacy Act Officer, Office of the Director of Administration, U.S. International Trade Commission, 500 E Street, SW., Washington, DC 20436. Individuals must furnish the following information for their records to be located and identified:

1. Full name(s);

2. Date of birth;

3. Social Security number;

4. Dates of employment;

5. Dates of travel (for travel records only); and

6. Signature.

Individuals requesting access must comply with the Commission's Privacy Act regulations on verification of identity (19 CFR part 201).

Contesting Record Procedure:

Individuals wishing to request amendment of their records should contact the Privacy Act Officer, Office of the Director of Administration, U.S. International Trade Commission, 500 E Street, SW., Washington, DC 20436. Individuals must furnish the following information for their records to be located and identified:

1. Full name(s);

2. Date of birth;

3. Social Security number;

4. Dates of employment;

5. Dates of travel (for travel records only); and

6. Signature.

Individuals requesting access must comply with the Commission's Privacy Act regulations on verification of identity (19 CFR part 201).

Record Source Categories:

Information in this system comes from official personnel documents, the individual to whom the record pertains, and Commission officials responsible for pay, leave, travel and activity reporting requirements.

Issued: May 7, 2002.
By order of the Commission.
Marilyn R. Abbott,
Secretary.

[FR Doc. 02-11750 Filed 5-9-02; 8:45 am]

BILLING CODE 7020-02-P